DEPARTMENT OF AGRICULTURE

Animal and Plant Health Inspection Service

7 CFR Parts 318 and 319

[Docket No. APHIS-2010-0082]

RIN 0579-AD71

Establishing a Performance Standard for Authorizing the Importation and Interstate Movement of Fruits and Vegetables

AGENCY: Animal and Plant Health Inspection Service, USDA.

ACTION: Final rule; correction.

SUMMARY: We are correcting a portion of the summary of the economic analysis presented in the SUPPLEMENTARY INFORMATION portion of our September 14, 2018, final rule amending our regulations governing the importation and interstate movement of fruits and vegetables. The summary reported an incorrect cost savings figure in its discussion of Executive Order 13771. This document corrects that error.

DATES: This correction is effective October 15, 2018.

FOR FURTHER INFORMATION CONTACT: Mr. Benjamin J. Kaczmarski, Assistant Director, Regulatory Coordination and Compliance, PPQ, APHIS, 4700 River Road Unit 133, Riverdale, MD 20737-1231; (301) 851-2127.

SUPPLEMENTARY INFORMATION: On September 14, 2018, we published in the Federal Register a final rule (83 FR 46627-46639, Docket No. APHIS-2010-0082) amending our regulations governing the importation of fruits and vegetables by broadening our existing performance standard to provide for approval of all new fruits and vegetables for importation into the United States using a notice-based process. We also removed the region- or commodity-specific phytosanitary requirements currently found in those regulations. Likewise, we made an equivalent revision of the performance standard in our regulations governing the interstate movement of fruits and vegetables from Hawaii and the U.S. territories (Guam, Northern Mariana Islands, Puerto Rico, and the U.S. Virgin Islands) and removed the commodity-specific phytosanitary requirements from those regulations. That action will allow for the approval of requests to authorize the importation or interstate movement of new fruits and vegetables in a manner that enables a more flexible and responsive regulatory approach to evolving pest situations in both the United States and exporting countries. It will not, however, alter the science-based process in which the risk associated with importation or interstate movement of a given fruit or vegetable is evaluated or the manner in which risks associated with the importation or interstate movement of a fruit or vegetable are mitigated.

As part of the SUPPLEMENTARY INFORMATION portion of the final rule, we provided a summary of the Regulatory Impact Analysis/Final Regulatory Flexibility Analysis (RIA/FRFA) prepared for the rule. In its discussion of Executive Order 13771, the summary provided a cost savings figure from an earlier iteration of the RIA/FRFA. The RIA/FRFA posted with the final rule contains the correct figure. In this document, we are correcting the text of the summary provided in the final rule.

Correction

In FR Doc. 2018-19984, published September 14, 2018 (83 FR 46627-46639), make the following correction:

1. On page 46637, in column 1, the second full paragraph is corrected to read as follows:

Interpreting these gains as cost savings accrued by using the quicker notice-based process rather than having to wait for rule promulgation, and in accordance with guidance on complying with Executive Order 13771, the primary annualized cost savings estimate for this rule is $7,895,000. This value is the midpoint estimate of cost savings annualized in perpetuity using a 7 percent discount rate.

Done in Washington, DC, this 28th day of September 2018.
Kevin Shea,
Administrator, Animal and Plant Health Inspection Service.

[FR Doc. 2018-21627 Filed 10-3-18; 8:45 am]

BILLING CODE 3410-34-P